CONSUMER PRODUCT SAFETY COMMISSION

Sunshine Act Meetings

Time and Date: Wednesday, December 9, 2009, 9 a.m.-12 noon.

Place: Hearing Room 420, Bethesda Towers, 4330 East West Highway, Bethesda, Maryland.

Status: Commission Meeting—Open to the Public.

Matters to be Considered: 1. Pending Decisional Matter: (a) Tracking Labels for Drywall Notice of Inquiry.

2. Final Rule on Registration Cards.

A live webcast of the Meeting can be viewed at http://www.cpsc.gov/webcast/index.html.

For a recorded message containing the latest agenda information, call (301) 504-7948.

Contact Person for More Information: Todd A. Stevenson, Office of the Secretary, U.S. Consumer Product Safety Commission, 4330 East West Highway, Bethesda, MD 20814 (301) 504-7923.

Dated: December 2, 2009.
Todd A. Stevenson,
Secretary.

[FR Doc. E9-29192 Filed 12-8-09; 8:45 am]

BILLING CODE 6355-01-M